DEPARTMENT OF COMMERCE

National Oceanic and Atmospheric Administration

[I.D. 080904C]

Gulf of Mexico Fishery Management Council; Public Meeting

AGENCY: National Marine Fisheries Service (NMFS), National Oceanic and Atmospheric Administration (NOAA), Commerce.

ACTION: Notice of public meeting.

SUMMARY: The Gulf of Mexico Fishery Management Council (Council) will convene a public meeting of the Finfish Stock Assessment Panel (FSAP) to review proposed revisions to the regulations serving as guidelines for interpreting National Standard One under the Magnuson-Stevens Fishery Conservation and Management Act (Magnuson-Stevens Act) in August 2004.

DATES: The Council's FSAP will convene from 1 p.m. to 4:30 p.m. on August 30, 2004.

ADDRESSES: The meeting will be held at the DoubleTree Guest Suites Tampa Bay, 3050 North Rocky Point Drive West, Tampa, FL; telephone: 813-888-8800.

Copies of the discussion material for this meeting may be obtained by calling 813-228-2815.

Council address: Gulf of Mexico Fishery Management Council, 3018 U.S. Highway 301 North, Suite 1000, Tampa, FL 33619.

FOR FURTHER INFORMATION CONTACT: Wayne Swingle, Executive Director, Gulf of Mexico Fishery Management Council, 3018 U.S. Highway 301 North, Suite 1000, Tampa, FL 33619; telephone: 813-228-2815.

SUPPLEMENTARY INFORMATION: National Standard One of the Magnuson-Stevens Act provides management will prevent overfishing while achieving optimum yield from fishery stocks. The guidelines for this standard provide technical guidance on assessing the status of stocks, preventing overfishing and rebuilding overfished stocks. NOAA Fisheries, after scientific review, is preparing to amend the guidelines. The Council's FSAP consists of scientists with expertise on management of fishery stocks and mathematically assessing the status of such stocks. The FSAP will review the revisions proposed by NOAA Fisheries and make their recommendations to the Council on the scientific merit of the proposed changes and/or the need for additional changes.

The Gulf of Mexico Fishery Management Council is one of eight regional fishery management councils that were established by the Magnuson-Stevens Act of 1976. The Gulf of Mexico Fishery Management Council prepares fishery management plans that are designed to manage fishery resources in the U.S. Gulf of Mexico.

See ADDRESSES to obtain copies of the discussion material for this meeting. Although non-emergency issues not contained in the agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is open to the public and is physically accessible to people with disabilities. Requests for sign language interpretation or other auxiliary aids should be directed to Dawn Aring at the Council (see ADDRESSES) by August 13, 2004.

Dated: August 9, 2004.
Alan D. Risenhoover,
Acting Director, Office of Sustainable Fisheries, National Marine Fisheries Service.

[FR Doc. E4-1811 Filed 8-11-04; 8:45 am]

BILLING CODE